ENVIRONMENTAL PROTECTION AGENCY

[EPA-HQ-OPP-2007-0328; FRL-8149-8]

Guidance on Recommended Environmental Hazard Statements for Outdoor Residential Pesticides; Notice of Availability

AGENCY: Environmental Protection Agency (EPA).

ACTION: Notice.

SUMMARY: The Agency seeks public comment on a draft Pesticide Registration (PR) Notice entitled “Environmental Hazard Statements for Outdoor Residential Pesticides”. The proposed guidance is directed toward current or prospective registrants of outdoor residential use pesticides on recommended environmental hazard language. This guidance recommends new environmental hazard statements that are designed to replace language created for agricultural products with statements that are easier for consumers to understand. The new environmental hazard statements are divided by product type (e.g., liquid ready-to-use, broadcast granular), and recommends specific language for each product type to minimize risks to the human health and the environment, with emphasis on reducing risks to water. Revisions to product labels using these new statements may be made by notification.

DATES: Comments must be received on or before November 2, 2007.

ADDRESSES: Submit your comments, identified by docket identification (ID) number EPA-HQ-OPP-2007-EPA-HQ-OPP-2007-0328 by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2007-0328. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Jim Roelofs, Field and External Affairs Division, Office of Pesticide Programs, Environmental Protection Agency, 1200 Pennsylvania Ave., NW., Washington, DC 20460-0001; telephone number: (703) 308-2964; fax number: (703) 308-1850; e-mail: roelofs.jim@epa.gov.

SUPPLEMENTARY INFORMATION:

I. General Information

A. Does this Action Apply to Me?

This action is directed to the public in general. Although this action may be of particular interest to those persons who are required to register, regulate, or label pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date, and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Specific questions for comment. i. The proposed statements are intended to give clear, practical instructions for the ordinary consumer, and to state a reason for following the instructions. Are there terms in the statements that are ambiguous or subject to interpretation, which could potentially confuse an untrained user?

ii. Three of the four categories (liquid concentrate, dust, and liquid ready-to-use) should not be applied in winds that would cause the product to drift to unintended areas. Since a home user can not be presumed to have any means of knowing actual wind speed at the time of application, what directions regarding wind would be most helpful?

a. The proposed environmental hazard statement to minimize the potential for drift reads: “[Do not] apply when wind is strong enough to carry spray away from treatment area.” Is that a clear, practical instruction?

b. The alternative statement to minimize drift incorporates the Beaufort scale (http://www.ncdc.noaa.gov/oa/climate/conversion/beaufortland.html). The Beaufort scale a system for estimating wind strengths without the use of instruments. For wind speeds that could affect application of residential products, the visual effects according to the Beaufort scale for a moderate breeze of 13 to18 miles per hour would be that small branches on trees are moving. Is this a practical indicator of when not to use a product? Is the phrase “Do not apply when wind is strong enough to move small branches on trees, as wind will carry spray away from treatment area” preferable to “Do not apply when wind is strong enough to carry spray away from treatment area”?

II. What Action is the Agency Taking?

EPA is recommending that registrants of outdoor residential use pesticides revise Environmental Hazard Statements on product labels. This action is voluntary and may be done through notification. As this is voluntary, no Agency action will be taken.

List of Subjects

Environmental protection, Administrative practice and procedure, Environmental Hazard Statements, Pesticides and pest Residential.

Dated: September 25, 2007.
Debra Edwards,
Director, Office of Pesticide Programs.

[FR Doc. E7-19448 Filed 10-2-07; 8:45 am]

BILLING CODE 6560-50-S